FEDERAL COMMUNICATIONS COMMISSION

Radio Broadcasting Services; AM or FM Proposals To Change the Community of License

AGENCY: Federal Communications Commission.

ACTION: Notice.

DATES: The agency must receive comments on or before July 8, 2019.

ADDRESSES: Federal Communications Commission, 445 12th Street SW, Washington, DC 20554.

FOR FURTHER INFORMATION CONTACT: Rolanda F. Smith, 202-418-2054.

SUPPLEMENTARY INFORMATION: The following applicants filed AM or FM proposals to change the community of license: GRAYS HARBOR INSTITUTE, KGHE(FM), Fac. ID No. 176823, Channel 206A, To MONTESANO, WA, From ELMA, WA, File No. BPED-20190415AAC; KUTE, INC., KZNM(FM), Fac. ID No. 183360, Channel 265C1, To TOWAOC, CO, From MILAN, NM, File No. BPH-20181106ABB; EMMIS AUSTIN RADIO BROADCASTING COMPANY, L.P., KBPA(FM), Fac. ID No. 41213, Channel 278C1, To AUSTIN, TX, From SAN MARCOS, TX, File No. BPH-20190206AAK; EDUCATIONAL MEDIA FOUNDATION, KXAI(FM), Fac. ID No. 7084, Channel 279A, To BALCONES HEIGHTS, TX, From REFUGIO, TX, File No. BPED-20190206AAJ; and 3 DAUGHTERS MEDIA, INC., WMNA-FM, Fac. ID No. 9985, Channel 292C3, To HALIFAX, VA, From GRETNA, VA, File No. BPH-20190211ACD.

The full text of these applications is available for inspection and copying during normal business hours in the Commission's Reference Center, 445 12th Street SW, Washington, DC 20554 or electronically via the Media Bureau's Consolidated Data Base System, http://licensing.fcc.gov/prod/cdbs/pubacc/prod/cdbs_pa.htm.

Federal Communications Commission.
Nazifa Sawez,
Assistant Chief, Audio Division, Media Bureau.

[FR Doc. 2019-09572 Filed 5-8-19; 8:45 am]

BILLING CODE 6712-01-P